SMALL BUSINESS ADMINISTRATION

[Disaster Declaration #11021 and #11022]

New York Disaster Number NY-00053

AGENCY: U.S. Small Business Administration.

ACTION: Amendment 2.

SUMMARY: This is an amendment of the Presidential declaration of a major disaster for the State of New York (FEMA-1724-DR), dated 08/31/2007.

Incident: Severe Storms, Flooding and Tornado

Incident Period: 08/08/2007.

Dates: Effective Date: 10/22/2007.

Physical Loan Application Deadline Date: 11/16/2007.

EIDL Loan Application Deadline Date: 06/02/2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of New York, dated 08/31/2007 is hereby amended to extend the deadline for filing applications for physical damages as a result of this disaster to 11/16/2007.

All other information in the original declaration remains unchanged.

(Catalog of Federal Domestic Assistance Numbers 59002 and 59008)
James E. Rivera,
Acting Associate Administrator for Disaster Assistance.

[FR Doc. E7-21408 Filed 10-30-07; 8:45 am]

BILLING CODE 8025-01-P